DEPARTMENT OF TRANSPORTATION

Federal Aviation Administration

14 CFR Part 39

[Docket No. FAA-2025-0613; Project Identifier MCAI-2025-00180-R; Amendment 39-23008; AD 2025-07-06]

RIN 2120-AA64

Airworthiness Directives; Airbus Helicopters

AGENCY: Federal Aviation Administration (FAA), DOT.

ACTION: Final rule; request for comments.

SUMMARY: The FAA is superseding Airworthiness Directive (AD) 2024-26-01, which applied to all Airbus Helicopters Model H160-B helicopters. AD 2024-26-01 required measuring the axial play of the rotating scissors spherical bearings, and depending on the results, accomplishing corrective action and reporting inspection results. Since the FAA issued AD 2024-26-01, Airbus Helicopters issued revised material to extend the applicability to all rotating scissors spherical bearing serial numbers, change the initial compliance time, establish repetitive inspections, and extend the reporting requirements. This AD was prompted by a determination that the initial compliance time and reporting requirement needed to be modified and repetitive inspections for certain axial play measurements added. This AD retains the actions required in AD 2024-26-01, revises the initial compliance time, extends the definition of an affected part to all serial numbered rotating scissors spherical bearings, extends the reporting requirements, and requires repetitive inspections. This AD also prohibits installing an affected rotating scissors spherical bearing unless certain requirements are met. These actions are specified in a European Union Aviation Safety Agency (EASA) AD, which is incorporated by reference. The FAA is issuing this AD to address the unsafe condition on these products.

DATES: This AD is effective April 25, 2025.

The Director of the Federal Register approved the incorporation by reference of a certain publication listed in this AD as of April 25, 2025.

The FAA must receive comments on this AD by May 27, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0613; or in person at Docket Operations between 9 a.m. and 5 p.m., Monday through Friday, except Federal holidays. The AD docket contains this final rule, the mandatory continuing airworthiness information (MCAI), any comments received, and other information. The street address for Docket Operations is listed above.

Material Incorporated by Reference:

• For EASA material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0613.

FOR FURTHER INFORMATION CONTACT: Zain Jamal, Aviation Safety Engineer, FAA, 1600 Stewart Avenue, Suite 410, Westbury, NY 11590; phone: (847) 294-7264; email: zain.jamal@faa.gov.

SUPPLEMENTARY INFORMATION:

Comments Invited

The FAA invites you to send any written data, views, or arguments about this final rule. Send your comments to an address listed under the ADDRESSES section. Include “Docket No. FAA-2025-0613; Project Identifier MCAI-2025-00180-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Zain Jamal, Aviation Safety Engineer, FAA, 1600 Stewart Avenue, Suite 410, Westbury, NY 11590. Any commentary that the FAA receives which is not specifically designated as CBI will be placed in the public docket for this rulemaking.

Background

The FAA issued AD 2024-26-01, Amendment 39-22915 (90 FR 20, January 2, 2025) (AD 2024-26-01), for all Airbus Helicopters Model H160-B helicopters. AD 2024-26-01 was prompted by MCAI originated by EASA, which is the Technical Agent for the Member States of the European Union Aviation Safety Agency. EASA issued Emergency AD 2024-0206-E, dated October 22, 2024 (EASA AD 2024-0206-E) to correct an unsafe condition identified as excessive axial play of the rotating scissors spherical bearings. AD 2024-26-01 required a one-time measurement of the axial play of the rotating scissors spherical bearings, and depending on the results, accomplishing corrective action and reporting inspection results. The FAA issued AD 2024-26-01 to address excessive axial play of the rotating scissors spherical bearings, which could result in reduced control of the helicopter.

Actions Since AD 2024-26-01 Was Issued

Since the FAA issued AD 2024-26-01, EASA superseded Emergency AD 2024-0206-E, and issued EASA AD 2025-0018, dated January 14, 2025 (EASA AD 2025-0018). EASA AD 2025-0018 states that Airbus Helicopters issued revised material to extend the list of the affected parts to all serial numbers, reduce the initial inspection compliance time, and establish repetitive inspections for certain axial play measurements. The FAA did not issue an AD corresponding to EASA AD 2025-0018. EASA then superseded AD 2025-0018 and issued EASA AD 2025-0040, dated February 14, 2025 (EASA AD 2025-0040) (also referred to as the MCAI), to correct an unsafe condition on Airbus Helicopters Model H160-B helicopters. The MCAI states that Airbus Helicopters revised its material again to amend the initial inspection compliance time and added reporting requirements when the axial play exceeds 0.20 mm.

You may examine the MCAI in the AD docket at regulations.gov under Docket No. FAA-2025-0613.

Material Incorporated by Reference Under 1 CFR Part 51

The FAA reviewed EASA AD 2025-0040, which specifies procedures for measuring the axial play of the rotating scissors spherical bearings and replacing the rotating scissors spherical bearings. EASA AD 2025-0040 also specifies reporting inspection results to Airbus Helicopters and prohibits installing an affected rotating scissors spherical bearing unless certain requirements are met.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this AD after determining that the unsafe condition described previously is likely to exist or develop on other products of the same type design.

AD Requirements

This AD retains certain requirements of AD 2024-26-01. This AD also requires accomplishing the actions specified in the material already described, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2025-0040 is incorporated by reference in this AD. This AD requires compliance with EASA AD 2025-0040 in its entirety through that incorporation, except for any differences identified as exceptions in the regulatory text of this AD. Using common terms that are the same as the heading of a particular section in EASA AD 2025-0040 does not mean that operators need comply only with that section. For example, where the AD requirement refers to “all required actions and compliance times,” compliance with this AD requirement is not limited to the section titled “Required Action(s) and Compliance Time(s)” in EASA AD 2025-0040. Material required by EASA AD 2025-0040 for compliance will be available at regulations.gov under Docket No. FAA-2025-0613 after this AD is published.

Interim Action

The FAA considers that this AD is an interim action. If final action is later identified, the FAA might consider further rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the affected components are part of an assembly that is critical to the control of a helicopter. The FAA has no information pertaining to the extent of excessive axial play of the rotating scissors spherical bearings that may currently exist in helicopters or how quickly degradation may occur. As the serial numbers of the affected part have been expanded, it is possible an initial inspection has not been performed on a helicopter where the unsafe condition exists. This excessive axial play of the rotating scissors spherical bearings is considered early for these parts. Accordingly, the initial actions required by this AD must be accomplished within a time period as short as 30 days for some helicopters. This compliance time is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects nine helicopters of U.S. registry. Labor rates are estimated at $85 per work-hour. Based on these numbers, the FAA estimates the following costs to comply with this AD.

Measuring the axial play of the two rotating scissors spherical bearings takes 2 work-hours for a cost of $170 per helicopter and $1,530 for the U.S fleet, per inspection cycle. Reporting the results takes 1 work-hour for a cost of $85 per helicopter and up to $765 for the U.S. fleet, per reporting instance.

If required, replacing a rotating scissors spherical bearing takes 2 work-hours for a cost of $170 and parts cost $1,300, for an estimated cost of $1,470 per bearing.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2024-26-01, Amendment 39-22915 (90 FR 20, January 2, 2025); and

b. Adding the following new airworthiness directive:

2025-07-06 Airbus Helicopters: Amendment 39-23008; Docket No. FAA-2025-0613; Project Identifier MCAI-2025-00180-R.

(a) Effective Date

This airworthiness directive (AD) is effective April 25, 2025.

(b) Affected ADs

This AD replaces AD 2024-26-01, Amendment 39-22915 (90 FR 20, January 2, 2025) (AD 2024-26-01).

(c) Applicability

This AD applies to Airbus Helicopters Model H160-B helicopters, certificated in any category.

(d) Subject

Joint Aircraft System Component (JASC) Code 6230, Main Rotor Mast/Swashplate.

(e) Unsafe Condition

This AD was prompted by report of excessive axial play of the rotating scissors spherical bearings. The FAA is issuing this AD to address excessive axial play of the rotating scissors spherical bearings. The unsafe condition, if not addressed, could result in reduced control of the helicopter.

(f) Compliance

Comply with this AD within the compliance times specified, unless already done.

(g) Requirements

Except as specified in paragraph (h) of this AD: Comply with all required actions and compliance times specified in, and in accordance with European Union Aviation Safety Agency AD 2025-0040, dated February 14, 2025 (EASA AD 2025-0040).

(h) Exceptions to EASA AD 2025-0040

(1) Where EASA AD 2025-0040 requires compliance in terms of flight hours, this AD requires using hours time-in-service.

(2) Where EASA AD 2025-0040 refers to its effective date, this AD requires using the effective date of this AD.

(3) Where EASA AD 2025-0040 refers to January 21, 2025 (the effective date of EASA AD 2025-0018, dated January 14, 2025), this AD requires using the effective date of this AD.

(4) Where Table 3 in appendix 1 of EASA AD 2025-0040 refers to October 24, 2024 (the effective date of EASA AD 2024-0206-E, dated October 22, 2024), this AD requires using January 17, 2025 (the effective date of AD 2024-26-01).

(5) Where paragraph (7) of EASA AD 2025-0040 specifies to report inspection results to AH [Airbus Helicopters] within certain compliance times, for this AD, report inspection results at the applicable times specified in paragraph (h)(5)(i) or (ii) of this AD.

(i) For an inspection done on or after the effective date of this AD: Submit the report within 7 days after the inspection.

(ii) For an inspection done before the effective date of this AD: Submit the report within 7 days after the effective date of this AD.

(6) This AD does not adopt the “Remarks” section of EASA AD 2025-0040.

(i) Special Flight Permits

Special flight permits are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Zain Jamal, Aviation Safety Engineer, FAA, 1600 Stewart Avenue, Suite 410, Westbury, NY 11590; phone: (847) 294-7264; email: zain.jamal@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0040, dated February 14, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on March 31, 2025.
Paul R. Bernado,
Acting Director, Compliance & Airworthiness Division, Aircraft Certification Service.

[FR Doc. 2025-06067 Filed 4-9-25; 8:45 am]

BILLING CODE 4910-13-P